DEPARTMENT OF AGRICULTURE

Agricultural Marketing Service

9 CFR Part 201

[Doc. No. AMS-FTPP-21-0046]

RIN 0581-AE04

Fair and Competitive Livestock and Poultry Markets

AGENCY: Agricultural Marketing Service, USDA.

ACTION: Notice; extension of comment period.

SUMMARY: The Agricultural Marketing Service (AMS) is extending the public comment period an additional 15 days regarding proposed revisions to the regulations under the Packers and Stockyards Act, 1921, that promote fair and competitive markets in the livestock, meats, poultry, and live poultry markets.

DATES: The comment period for the notice originally published on June 28, 2024 (89 FR 53886) is extended. Comments must be submitted on or before September 11, 2024.

ADDRESSES: Comments must be submitted through the Federal e-rulemaking portal at https://www.regulations.gov and should reference the document number and the date and page number of this issue of the Federal Register. AMS strongly prefers comments be submitted electronically. However, written comments may be submitted (i.e., delivered, not postmarked) via mail on or before September 11, 2024, to Docket No. AMS-FTPP-21-0046, S. Brett Offutt, Chief Legal Officer, Packers and Stockyards Division, USDA, AMS, FTPP; Room 2097-S, Mail Stop 3601, 1400 Independence Ave. SW, Washington, DC 20250-3601. All comments submitted in response to this proposed rule will be included in the record and will be made available to the public, as submitted, including any identifying information. Comments can be submitted anonymously by entering “N/A” in the fields that would identify the commenter. Pursuant to 5 U.S.C. 553(b)(4), a plain language summary of this proposed rule is available on https://www.regulations.gov in the docket for this rulemaking.

FOR FURTHER INFORMATION CONTACT: S. Brett Offutt, Chief Legal Officer/Policy Advisor, Packers and Stockyards Division, USDA AMS Fair Trade Practices Program, 1400 Independence Ave. SW, Washington, DC 20250; Phone: (202) 690-4355; or email: s.brett.offutt@usda.gov.

SUPPLEMENTARY INFORMATION: A proposed rule published in the Federal Register on June 28, 2024 (89 FR 53886), would revise the regulations under the Packers and Stockyards Act (7 U.S.C. 181 et seq.) at 9 CFR part 201. Under the proposal, USDA AMS would amend the regulations under the Packers and Stockyards Act of 1921 (the P&S Act or the Act) to clarify the unfair practices that the P&S Act prohibits. The proposed rule would define unfair practices as conduct that harms market participants and conduct that harms the market.

The notice of proposed rulemaking established a 60-day comment period, ending August 27, 2024. During the initial comment period, AMS received requests from several industry organizations asking for additional time to submit comments and citing the proposed rule's impact across different species, regions, and business models, including possible legal and economic impacts on the business relationships between livestock suppliers and packers, and contract farmers and poultry integrators. AMS is extending the comment period related to this proposed rule. Comments must be submitted on or before September 11, 2024.

Erin Morris,
Associate Administrator, Agricultural Marketing Service.

[FR Doc. 2024-18825 Filed 8-23-24; 8:45 am]

BILLING CODE P